NATIONAL AERONAUTICS AND SPACE ADMINISTRATION

[Notice (02-077)]

NASA Advisory Council, Biological and Physical Research Advisory Committee, Space Station Utilization Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee, Space Station Utilization Advisory Subcommittee (SSUAS).

DATES: Tuesday, July 9, 2002, 8 a.m. to 5 p.m., and Wednesday, July 10, 2002, 8 a.m. to 5 p.m., and Friday, July 12, 2002, 8 a.m. to 5 p.m.

ADDRESSES: Center for Advanced Space Studies, 3600 Bay Area Boulevard, Houston, Texas.

FOR FURTHER INFORMATION CONTACT: Dr. Neal Pellis, Code UM, National Aeronautics and Space Administration, Houston, TX 77058, (202) 358-2022.

SUPPLEMENTARY INFORMATION: The meeting will be open to the public up to the seating capacity of the room. Advance notice of attendance to the Executive Secretary is requested. The agenda for the meeting will include the following topics:

—Research Operations

—Writing Assignments

—Response to Prior Recommendations

—Operations and Integration Improvements

—Special Topics

—Recommendations

The following items are not part of the SSUAS Summer Workshop, but are scheduled consecutively with it.

—International Forum on the Scientific Uses of Space Station Meeting on Friday, July 12, 2002, afternoon

—Meeting on the International Space Station Utilization Management Concept Development on Thursday, July 11, 2002, all day

It is imperative that the meeting be held on this date to accommodate the scheduling priorities of the key participants. Visitors will be requested to sign a visitor's register.

Dated: June 20, 2002.
Sylvia K. Kraemer,
Advisory Committee Management Officer, National Aeronautics and Space Administration.

[FR Doc. 02-16048 Filed 6-25-02; 8:45 am]

BILLING CODE 7510-1-M